FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 19, 2016.

A. Federal Reserve Bank of Atlanta (Chapelle Davis, Assistant Vice President) 1000 Peachtree Street NE., Atlanta, Georgia 30309. Comments can also be sent electronically to Applications.Comments@atl.frb.org:

1. Moi M. Monroe and Ida M. Monroe Trust (Moi M Monroe III, Waycross, Georgia, William Joseph Monroe, Jr., Savannah, Georgia, Hannah Hopkins Franklin, Knoxville, Tennessee, Synovus Bank, Columbus Georgia, trustees), Moi M. Monroe III, Waycross, Georgia, Martha M Veon, Muskatine, Iowa, Cheryl B Monroe, Waycross, Georgia, Ann M. Hammond, Atlanta, Georgia, Ellen Monroe Colberg, Mount Holly, North Carolina, Emily Monroe Pridgen, Rincon, Georgia, The William & Elizabeth Hickam Living Trust (William Hickam, Centennial, Colorado, and Elizabeth Hickam, Centennial, Colorado, trustees), Elizabeth Monroe Grantham, Nicholls, Georgia, Mr. and Mrs. David Bolton, Snellville, Georgia, Walter Hopkins, Amelia Island, Florida, Carolyn Hopkins, Amelia Island, Florida, Mary Hopkins Bailey, Knoxville, Tennessee, William Joseph Monroe, Jr., Savannah, Georgia, Patricia M. Monroe, Waycross, Georgia, Mary Helen Monroe, Fernandina Beach, Florida, Patricia Monroe Fievet, High Point, North Carolina, Ivy S Monroe, Savannah, Georgia, Caroline Jordan Monroe, Savannah, Georgia, William Joseph Monroe, III, Savannah, Georgia, J. E. Stewart Jr, Waycross, Georgia, Edwina J Stewart, Waycross, Georgia, J. E. Stewart III, Waycross, Georgia, James E. Stewart IV, Waycross, Georgia, John T Stewart, Waycross, Georgia, Joseph Cook Stewart, Waycross, Georgia, Amy Fletcher, Waycross, Georgia, Mary Stewart Weir, Waycross, Georgia, Sara Stewart Cotton, Atlanta, Georgia, Steven Collins Cotton, Jr., Atlanta, Georgia, Claire Morgan Cotton, Atlanta, Georgia, Sam G. Stewart, Waycross, Georgia, Samuel Gaskin Stewart Jr., Waycross, Georgia, Caroline Devane Stewart, Waycross, Georgia, Deen J. Stewart, Waycross, Georgia, Deen Jordan Stewart Jr., Waycross, Georgia, and Courtney Nicole Stewart, Waycross, Georgia; to acquire as a group voting shares of WB & T Bankshares Inc., Waycross, Georgia, and thereby own shares of Waycross Bank & Trust in Waycross, Georgia, Guardian Bank, Valdosta, Georgia, and South Coast Bank & Trust, Brunswick, Georgia.

Board of Governors of the Federal Reserve System, November 30, 2016.
Yao-Chin Chao,
Assistant Secretary of the Board.

[FR Doc. 2016-29092 Filed 12-2-16; 8:45 am]

BILLING CODE 6210-01-P